DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on December 5, 2006, vol. 71, no. 233, page 70579. 14 CFR part 141 prescribes requirements for pilot schools certification. Information collected is used for certification and to determine compliance.

DATES: Please submit comments by April 16, 2007.

FOR FURTHER INFORMATION CONTACT: Carla Mauney at Carla.Mauney@faa.gov.

SUPPLEMENTARY INFORMATION:

Federal Aviation Administration (FAA)

Title: Pilot Schools—FAR 141.

Type of Request: Extension of a currently approved collection.

OMB Control Number: 2120-0009.

Form(s): FAA Form 8420-8.

Affected Public: An estimated 546 Respondents.

Frequency: This information is collected on occasion.

Estimated Average Burden Per Response: Approximately 54.5 hours per response.

Estimated Annual Burden Hours: An estimated 29,770 hours annually.

Abstract: Chapter 447, Subsection 44707, authorizes certification of civilian schools giving instruction in flying. 14 CFR part 141 prescribes requirements for pilot schools certification. Information collected is used for certification and to determine compliance. The respondents are applicants who wish to be issued pilot school certificates and associated ratings.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974. Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on March 9, 2007.
Carla Mauney,
FAA Information Collection Clearance Officer, Strategy and Investment Analysis Division, AIO-20.

[FR Doc. 07-1205 Filed 3-14-07; 8:45 am]

BILLING CODE 4910-13-M